DEPARTMENT OF ENERGY

Federal Energy Regulatory Commission

Combined Notice of Filings #1

Take notice that the Commission received the following electric corporate filings:

Docket Numbers: EC25-41-000.

Applicants: Blue Canyon Windpower LLC.

Description: Application for Authorization Under Section 203 of the Federal Power Act of Blue Canyon Windpower LLC.

Filed Date: 1/13/25.

Accession Number: 20250113-5224.

Comment Date: 5 p.m. ET 2/3/25.

Docket Numbers: EC25-42-000.

Applicants: EDPR CA Solar Park LLC,EDPR CA Solar Park II LLC, Sandrini BESS Storage LLC.

Description: Joint Application for Authorization Under Section 203 of the Federal Power Act of EDPR CA Solar Park LLC, et al.

Filed Date: 1/13/25.

Accession Number: 20250113-5226.

Comment Date: 5 p.m. ET 2/3/25.

Take notice that the Commission received the following electric rate filings:

Docket Numbers: ER15-1883-023; ER10-1852-100; ER10-1890-029; ER10-1951-075; ER10-1962-029; ER19-1076-014; ER11-2160-029; ER11-2192-025; ER19-1073-013; ER11-3635-022; ER11-4462-098; ER11-4677-030; ER11-4678-029; ER12-631-030; ER12-676-024; ER12-2444-028; ER13-1991-034; ER13-1992-034; ER13-2112-024; ER14-1496-001; ER15-1016-022; ER15-1375-023; ER15-1418-023; ER15-2243-020; ER15-2477-022; ER16-90-022; ER16-91-022; ER16-632-022; ER16-2443-019; ER17-196-012; ER17-582-021; ER17-583-021; ER17-804-006; ER17-838-072; ER17-2340-019; ER18-772-014; ER18-807-015; ER18-1978-015; ER19-1392-013; ER20-819-016; ER20-820-015; ER20-2380-011; ER20-2622-009; ER20-2695-014; ER21-1580-011; ER21-2118-010; ER21-2293-010; ER21-2294-012; ER21-2304-011; ER21-2674-008; ER22-96-007; ER22-415-010; ER22-1370-010; ER22-2824-009; ER23-71-004; ER23-147-006; ER23-148-006; ER23-853-004; ER23-854-005; ER23-884-005; ER23-1208-004; ER23-1541-004; ER23-1542-004; ER23-1543-004; ER24-34-005; ER24-61-004; ER24-136-006; ER24-359-004; ER24-817-005; ER24-818-003; ER24-827-003; ER25-67-001; ER25-109-001.

Applicants: Silver State South Storage, LLC, Grace Orchard Solar II, LLC, Grace Orchard Energy Center, LLC, Yellow Pine Solar II, LLC, Babbitt Ranch Energy Center, LLC, Crow Creek Solar, LLC, Sunlight Storage II, LLC, Sky Ranch Solar, LLC, Proxima Solar, LLC, Desert Peak Energy Storage II, LLC, Desert Peak Energy Storage I, LLC, Desert Peak Energy Center, LLC, North Central Valley Energy Storage, LLC, Sonoran Solar Energy, LLC, Storey Energy Center, LLC, Saint Energy Storage II, LLC, Resurgence Solar II, LLC, Resurgence Solar I, LLC, Buena Vista Energy Center, LLC, Yellow Pine Solar, LLC, Sunlight Storage, LLC, Arlington Energy Center III, LLC, Route 66 Solar Energy Center, LLC, Borderlands Wind, LLC, Arlington Solar, LLC, Arlington Energy Center II, LLC, Fish Springs Ranch Solar, LLC, Dodge Flat Solar, LLC, Sky River Wind, LLC, Mohave County Wind Farm LLC, Wilmot Energy Center, LLC, Saint Solar, LLC, Blythe Solar IV, LLC, Blythe Solar III, LLC, High Lonesome Mesa Wind, LLC, Casa Mesa Wind, LLC, Pinal Central Energy Center, LLC, New Mexico Wind, LLC, Golden Hills North Wind, LLC, NextEra Energy Marketing, LLC, Coram California Development, L.P., Whitney Point Solar, LLC, Westside Solar, LLC, Pima Energy Storage System, LLC, NextEra Blythe Solar Energy Center, LLC, Blythe Solar II, LLC, Blythe Solar 110, LLC, Golden Hills Interconnection, LLC, Golden Hills Wind, LLC, Silver State Solar Power South, LLC, Adelanto Solar II, LLC, McCoy Solar, LLC ,Shafter Solar, LLC, Mountain View Solar, LLC, Genesis Solar, LLC, Desert Sunlight 300, LLC, Desert Sunlight 250, LLC, North Sky River Energy, LLC, Perrin Ranch Wind, LLC, Windpower Partners 1993, LLC, Vasco Winds, LLC, NextEra Energy Montezuma II Wind, LLC,NEPM II, LLC, Hatch Solar Energy Center I, LLC, Alta Wind VIII, LLC, Red Mesa Wind, LLC,FPL Energy Montezuma Wind, LLC, Windstar Energy, LLC, High Winds, LLC, NextEra Energy Services Massachusetts, LLC,FPL Energy Green Power Wind, LLC, Florida Power & Light Company, Adelanto Solar, LLC.

Description: Triennial Market Power Analysis for Southwest Region of Adelanto Solar, LLC, et al.

Filed Date: 1/14/25.

Accession Number: 20250114-5192.

Comment Date: 5 p.m. ET 3/17/25.

Docket Numbers: ER19-90-007.

Applicants: Clean Energy Future—Lordstown, LLC.

Description: Compliance filing: Informational Filing Pursuant to Schedule 2 of the PJM OATT to be effective N/A.

Filed Date: 1/15/25.

Accession Number: 20250115-5182.

Comment Date: 5 p.m. ET 2/5/25.

Docket Numbers: ER19-1216-004.

Applicants: Northwest Ohio Wind, LLC.

Description: Northwest Ohio Wind, LLC submits informational report in advance of a transaction by which a 50% ownership interest in NWOW will be transferred to F8 Renewables NWO Wind, LLC, and Request for Confidential Treatment.

Filed Date: 12/16/24.

Accession Number: 20241216-5325.

Comment Date: 5 p.m. ET 1/24/25.

Docket Numbers: ER22-279-003.

Applicants: PSEG Keys Energy Center LLC.

Description: Compliance filing: Parkway Generation Keys Energy Center LLC submits tariff filing per 35: Informational Filing Pursuant to Schedule 2 of the PJM OATT to be effective N/A.

Filed Date: 1/15/25.

Accession Number: 20250115-5174.

Comment Date: 5 p.m. ET 2/5/25.

Docket Numbers: ER22-285-003.

Applicants: PSEG Fossil Sewaren Urban Renewal LLC.

Description: Compliance filing: Parkway Generation Sewaren Urban Renewal Entity LLC submits tariff filing per 35: Informational Filing Pursuant to Schedule 2 of the PJM OATT to be effective N/A.

Filed Date: 1/15/25.

Accession Number: 20250115-5180.

Comment Date: 5 p.m. ET 2/5/25.

Docket Numbers: ER22-294-003.

Applicants: PSEG Fossil LLC.

Description: Compliance filing: Parkway Generation Operating LLC submits tariff filing per 35: Informational Filing Pursuant to Schedule 2 of the PJM OATT to be effective N/A.

Filed Date: 1/15/25.

Accession Number: 20250115-5177.

Comment Date: 5 p.m. ET 2/5/25.

Docket Numbers: ER25-824-000; EL24-121-000.

Applicants: Old Dominion Electric Cooperative v. The Potomac Edison Company, FirstEnergy Service Company, and PJM Interconnection, L.L.C., First Energy Service Company, Potomac Edison Company.

Description: Refund Report of First Energy Service Company et al.

Filed Date: 12/23/24.

Accession Number: 20241223-5468.

Comment Date: 5 p.m. ET 1/21/25.

Docket Numbers: ER25-927-000.

Applicants: CenterPoint Energy Houston Electric, LLC.

Description: 205(d) Rate Filing: TFO Tariff Interim Rate Revision to Conform with PUCT to be effective 1/13/2025.

Filed Date: 1/15/25.

Accession Number: 20250115-5000.

Comment Date: 5 p.m. ET 2/5/25.

Docket Numbers: ER25-928-000.

Applicants: Pacific Gas and Electric Company.

Description: 205(d) Rate Filing: TO SA 480: LS Power Grid California, LLC IA (Round Mountain) to be effective 12/23/2024.

Filed Date: 1/15/25.

Accession Number: 20250115-5001.

Comment Date: 5 p.m. ET 2/5/25.

Docket Numbers: ER25-929-000.

Applicants: Union Electric Company.

Description:205(d) Rate Filing: 2025-01-15_SA 4431 Ameren Missouri-City of Kirkwood CA to be effective 3/17/2025.

Filed Date: 1/15/25.

Accession Number: 20250115-5050.

Comment Date: 5 p.m. ET 2/5/25.

Docket Numbers: ER25-930-000.

Applicants: PJM Interconnection, L.L.C.

Description: 205(d) Rate Filing: Original GIA Service Agreement SA No. 7459; Project Identifier #AF1-322 to be effective 12/16/2024.

Filed Date: 1/15/25.

Accession Number: 20250115-5051.

Comment Date: 5 p.m. ET 2/5/25.

Docket Numbers: ER25-931-000.

Applicants: Pacific Gas and Electric Company.

Description: 205(d) Rate Filing: RS 248: Silicon Valley Power Grizzly Amendment Filling to be effective 3/17/2025.

Filed Date: 1/15/25.

Accession Number: 20250115-5066.

Comment Date: 5 p.m. ET 2/5/25.

Docket Numbers: ER25-932-000.

Applicants: American Transmission Systems, Incorporated.

Description: 205(d) Rate Filing: ATSI submits Construction Agreement, SA No. 6628 to be effective 3/17/2025.

Filed Date: 1/15/25.

Accession Number: 20250115-5067.

Comment Date: 5 p.m. ET 2/5/25.

Docket Numbers: ER25-933-000.

Applicants: Tri-State Generation and Transmission Association, Inc.

Description: 205(d) Rate Filing: Amendment to Rate Schedule FERC No. 376 to be effective 12/16/2024.

Filed Date: 1/15/25.

Accession Number: 20250115-5088.

Comment Date: 5 p.m. ET 2/5/25.

Docket Numbers: ER25-934-000.

Applicants: San Juan Solar 1, LLC.

Description: 205(d) Rate Filing: Filing of Revised Rate Schedule and Request for Waivers to be effective 1/16/2025.

Filed Date: 1/15/25.

Accession Number: 20250115-5095.

Comment Date: 5 p.m. ET 2/5/25.

Docket Numbers: ER25-935-000.

Applicants: Tri-State Generation and Transmission Association, Inc.

Description: 205(d) Rate Filing: Amendment to Rate Schedule FERC No. 8 to be effective 3/17/2025.

Filed Date: 1/15/25.

Accession Number: 20250115-5108.

Comment Date: 5 p.m. ET 2/5/25.

Docket Numbers: ER25-936-000.

Applicants: Tri-State Generation and Transmission Association, Inc.

Description: 205(d) Rate Filing: Initial Filing of Rate Schedule FERC No. 402 to be effective 12/16/2024.

Filed Date: 1/15/25.

Accession Number: 20250115-5116.

Comment Date: 5 p.m. ET 2/5/25.

Docket Numbers: ER25-937-000.

Applicants: Entergy Arkansas, LLC.

Description: 205(d) Rate Filing: MSS-4R Amendments to be effective 3/16/2025.

Filed Date: 1/15/25.

Accession Number: 20250115-5119.

Comment Date: 5 p.m. ET 2/5/25.

Docket Numbers: ER25-938-000.

Applicants: Aron Energy Prepay 51 LLC.

Description: Initial Rate Filing: Baseline new to be effective 3/17/2025.

Filed Date: 1/15/25.

Accession Number: 20250115-5148.

Comment Date: 5 p.m. ET 2/5/25.

Docket Numbers: ER25-939-000.

Applicants: Aron Energy Prepay 52 LLC.

Description: Initial Rate Filing: Baseline new to be effective 3/17/2025.

Filed Date: 1/15/25.

Accession Number: 20250115-5149.

Comment Date: 5 p.m. ET 2/5/25.

Docket Numbers: ER25-940-000.

Applicants: Aron Energy Prepay 53 LLC.

Description: Initial Rate Filing: Baseline new to be effective 3/17/2025.

Filed Date: 1/15/25.

Accession Number: 20250115-5152.

Comment Date: 5 p.m. ET 2/5/25.

Docket Numbers: ER25-941-000.

Applicants: Aron Energy Prepay 54 LLC.

Description: Initial Rate Filing: Baseline new to be effective 3/17/2025.

Filed Date: 1/15/25.

Accession Number: 20250115-5153.

Comment Date: 5 p.m. ET 2/5/25.

Docket Numbers: ER25-943-000.

Applicants: Midcontinent Independent System Operator, Inc., Southwest Power Pool, Inc.

Description: Compliance filing: Midcontinent Independent System Operator, Inc. submits tariff filing per 35: 2025-01-15_Petition for Waiver of MISO-SPP JOA re: Coordinated System Plan Study to be effective N/A.

Filed Date: 1/15/25.

Accession Number: 20250115-5170.

Comment Date: 5 p.m. ET 2/5/25.

Docket Numbers: ER25-944-000.

Applicants: Duke Energy Progress, LLC.

Description: 205(d) Rate Filing: DEP-DEP Surplus Interconnection Service Study Agreement (Warsaw 2) to be effective 1/16/2025.

Filed Date: 1/15/25.

Accession Number: 20250115-5192.

Comment Date: 5 p.m. ET 2/5/25.

Docket Numbers: ER25-945-000.

Applicants: Duke Energy Carolinas, LLC.

Description: 205(d) Rate Filing: DEC-DEC Surplus Interconnection Service Study Agreement (Maidens Creek) to be effective 1/16/2025.

Filed Date: 1/15/25.

Accession Number: 20250115-5194.

Comment Date: 5 p.m. ET 2/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 15, 2025.
Carlos D. Clay,
Acting Deputy Secretary.

[FR Doc. 2025-01510 Filed 1-21-25; 8:45 am]

BILLING CODE 6717-01-P